DEPARTMENT OF ENERGY

Federal Energy Regulatory Commission

Notice of Teleconference Meeting for the Big Creek No. 4, Project, P-2017

December 5, 2001.

a. Date and Time of Meeting: December 19, 2001, 1:00 PM EST to 3:30 PM EST.

b. Place: By copy of this notice we are inviting interested parties to participate in a teleconference from their telephone location. If anyone wishes to participate, they need to call 1-888-730-9139. The participants will need to give the operator the conference leader's name: John Ramer and the passcode: Ramer.

c. FERC Contact: John Ramer at (202) 219-2833; john.ramer@FERC.Fed.US or John Smith at (202) 219-2460; john.smith@FERC.Fed.US.

d. Purpose of the Meeting: The Federal Energy Regulatory Commission and the U.S. Forest Service, Sierra National Forest, intend to discuss the Forest Service's 4(e) conditions for the Big Creek No. 4 Project, FERC Project No. 2017.

e. Proposed Agenda:

A. Clarification of Forest Service section 4(e) terms and conditions

B. FERC's Schedule for issuing the Final Environmental Impact Statement

f. All local, state, and Federal agencies, Indian Tribes, and interested parties, are hereby invited to participate in this meeting. If you want to participate by teleconference, please contact John Ramer or John Smith at the numbers listed above no later than December 14, 2001.

Linwood A. Watson, Jr.,
Acting Secretary.

[FR Doc. 01-30553 Filed 12-10-01; 8:45 am]

BILLING CODE 6717-01-P